ENVIRONMENTAL PROTECTION AGENCY

[EPA-HQ-OPP-2009-0619; FRL-8432-4]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective by February 23, 2010 or September 28, 2009 for registrations for which the registrant requested a waiver of the 180-day comment period. The Agency will consider withdrawal requests postmarked no later than February 23, 2010 or September 28, 2009, whichever is applicable. Comments must be received on or before February 23, 2010 or September 28, 2009, for those registrations where the 180-day comment period has been waived.

Users of these products who desire continued use on crops or sites being deleted should contact the applicable registrant on or before February 23, 2010 or September 28, 2009 for registrations for which the registrant requested a waiver of the 180-day comment period.

ADDRESSES: Submit your withdrawal request, identified by docket identification (ID) number EPA-HQ-OPP-2009-0619, by one of the following methods:

• Federal eRulemaking Portal: http//www.regulations.gov. Follow the instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket ID number EPA-HQ-OPP-2009-0619. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces receipt by the Agency of applications from registrants to delete uses in certain pesticide registrations. These registrations are listed in Table 1 of this unit by registration number, product name, active ingredient, and specific uses deleted:

Table 1.—Registrations With Requests for Amendments to Delete Uses in Certain Pesticides
EPA Reg. No. | Product Name | Active Ingredient | Delete From Label
001001-00077 | Protect DF | Mancozeb | Athletic Fields, Residential Lawns and Turf, and Pachysandra
009198-00196 | Fertilizer with TGR Poa Annua Control | Paclobutrazol | Home/Residential Lawns
009198-00199 | TGR Winter overseeding Enhancer | Paclobutrazol | Home/Residential Lawns
009198-00205 | Anderson's Golf Products Turf Enhancer 2SC | Paclobutrazol | Home/Residential Lawns
009198-00215 | The Anderson's Fertilizer with 0.25% Paclobutrazol | Paclobutrazol | Home/Residential Lawns
059106-00006 | BIO-CLEAR 2000 | 2-2-Dibromo-3-nitrilopropionamide | Once-Through Cooling Towers; Food Contact Paper Mill Applications
062719-00539 | Spinetoram Technical | Spinetoram | Sorghum and Millet
062719-00541 | DELEGATE WG | Spinetoram | Sorghum and Millet
062719-00545 | RADIANT SC | Spinetoram | Sorghum and Millet
081964-00002 | Acephate 75% SP | Acephate | Residential Turf

Users of these products who desire continued use on crops or sites being deleted should contact the applicable registrant before February 23, 2010 or September 28, 2009 for registrations for which the registrant requested a waiver of the 180-day comment period to discuss withdrawal of the application for amendment. This time period will also permit interested members of the public to intercede with registrants prior to the Agency's approval of the deletion.

A request to waive the 180-day comment period has been received for the following registrations: 001001-00077; 059106-00006; 062719-00539; 062719-00541; 062719-00545; 081964-00002.

Table 2 of this unit includes the names and addresses of record for all registrants of the products listed in Table 1 of this unit, in sequence by EPA company number.

Table 2—Registrants Requesting Amendments to Delete Uses in Certain Pesticide Products
EPA Company no. | Company Name and Address
000264 | Bayer CropsScience LP, 2 T.W. Alexander Drive, Research Triangle Park, NC 27709.
000769 | Value Gardens Supply, LLC, P.O. Box 585, Saint Joseph, MO 64502.
001001 | Cleary Chemicals, LLC, 178 Ridge Road, Suite A, Dayton, NJ 08810-0010.
005481 | AMVAC Chemical Corporation, 4695 Macarthur Court, Suite 1250, Newport Beach, CA 92660-1706.
059106 | Clearwater International, LLC, 515 Post Oak Boulevard, Houston, TX 77027.
062719 | Dow AgroSciences LLC, 9330 Zionsville Rd. 308/2E, Indianapolis, IN 46268-1054.
081964 | Chemstarr, LLC, 21 Hubble, Irvine, CA 92618.

III. What is the Agency's Authority for Taking this Action?

Section 6(f)(1) of FIFRA provides that a registrant of a pesticide product may at any time request that any of its pesticide registrations be amended to delete one or more uses. The FIFRA further provides that, before acting on the request, EPA must publish a notice of receipt of any such request in the Federal Register. Thereafter, the Administrator may approve such a request.

IV. Procedures for Withdrawal of Request

Registrants who choose to withdraw a request for use deletion must submit the withdrawal in writing to John Jamula using the methods in ADDRESSES. Requests for withdrawal must be received on or before February 23, 2010 or September 28, 2009, for those registrations where the 180-day comment period has been waived.

V. Provisions for Disposition of Existing Stocks

The Agency has authorized the registrants to sell or distribute product under the previously approved labeling for a period of 18 months after approval of the revision, unless other restrictions have been imposed, as in special review actions.

List of Subjects

Environmental protection, Pesticides and pests.

Dated: August 19, 2009.
Kathryn Bouvé
Acting Director, Information Technology and Resources Management Division, Office of Pesticide Programs.

[FR Doc. E9-20719 Filed 8-26-09; 8:45 am]

BILLING CODE 6560-50-S